ENVIRONMENTAL PROTECTION AGENCY

40 CFR Parts 174 and 180

[EPA-HQ-OPP-2022-0161; FRL-9410-11-OCSPP]

Receipt of Pesticide Petitions Filed for Residues of Pesticide Chemicals in or on Various Commodities—February 2022

AGENCY: Environmental Protection Agency (EPA).

ACTION: Notifictions of filing of petitions and request for comment.

SUMMARY: This document announces the Agency's receipt of initial filings of pesticide petitions requesting the establishment or modification of regulations for residues of pesticide chemicals in or on various commodities.

DATES: Comments must be received on or before April 21, 2022.

ADDRESSES: Submit your comments, identified by docket identification (ID) number and the pesticide petition (PP) of interest as shown in the body of this document, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

Due to the public health concerns related to COVID-19, the EPA Docket Center (EPA/DC) and Reading Room is open to visitors by appointment only. For the latest status information on EPA/DC services and access, visit https://www.epa.gov/dockets.

FOR FURTHER INFORMATION CONTACT: Charles Smith, Biopesticides and Pollution Prevention Division (BPPD) (7511P), main telephone number: (202) 566-2427, email address: BPPDFRNotices@epa.gov; or Marietta Echeverria, Registration Division (RD) (7505P), main telephone number: (703) 305-7090, email address: RDFRNotices@epa.gov. The mailing address for each contact person: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Inerts (Except PIPS)

PP IN-11661. (EPA-HQ-OPP-2022-0189). The United States Department of Agriculture, Animal and Plant Health Inspection Service (4700 River Road, Unit 149, Riverdale, MD 20737), requests to amend 40 CFR part 180.930 to add iron oxide (Fe3O4) (CAS No. 1317-61-9) as an inert ingredient (colorant) in pesticide formulations at no more than 2,000 parts per million (ppm) (0.2% by weight) in the final formulation when applied to animals. No analytical method is needed because it is not required for an exemption from the requirement of a tolerance. Contact: RD.

B. Amended Tolerances for Non-Inerts

1. PP 1F8929. (EPA-HQ-OPP-2021-0555). Gowan Company, LLC 370 S Main St., Yuma, AZ 85366, requests to amend the tolerance(s) in 40 CFR 180.416 for residues of the herbicide ethalfluralin in or on 3-07A. Onion, bulb subgroup at 0.01 ppm. The capillary gas chromatography with mass selective detection (GC/MSD) is used to measure and evaluate the chemical ethalfluralin. Contact: RD.

2. PP 1F8940. (EPA-HQ-OPP-2021-0787). SePRO Corporation, 11550 North Meridian Street, Suite 600, Carmel, IN 46032, requests to amend the tolerances in 40 CFR 180.420(d) by removing the existing tolerances for indirect or inadvertent residues of the herbicide fluridone, including its metabolites and degradates, in or on berry, group 13; fruit, citrus, group 10; fruit, pome, group 11; hop, dried cones; and nut, tree, group 14 at 0.1 ppm and animal feed, nongrass, group 18 and grass, forage at 0.15 ppm. Contact: RD.

C. New Tolerance Exemptions for Inerts (Except PIPS)

1. PP IN-11599. (EPA-HQ-OPP-2021-0645). Valent BioSciences LLC (1910 Innovation Way, Suite 100, Libertyville, Il. 60048) requests to establish an exemption from the requirement of a tolerance for residues of arbuscular mychorrhizae (funnelformis mosseae, rhizophagus irregularis, rhizophagus etunicatum, claroideoglomus clarus, claroideoglomus luteum, claroideoglomus claroideum, septoglomus deserticola, gigaspora margarita, paraglomus brasiliensis) for use as an inert ingredient (biostimulant) in pesticide formulations applied to growing crops pre-harvest under 40 CFR 180.920. The petitioner believes no analytical method is needed because it is not required for an exemption from the requirement of a tolerance. Contact: RD.

2. PP IN-11669. (EPA-HQ-OPP-2022-0188). Spring Regulatory Sciences (6620 Cypresswood Dr., Suite 250, Spring, TX 77379), on behalf Nouryon Chemicals LLC USA (131 S Dearborn, Suite 1000, Chicago, IL 60603-5566), requests to establish an exemption from the requirement of a tolerance for cellulose, ethyl 2-hydroxyethyl ether (CAS Number: 9004-58-4), with a minimum number average molecular weight of 165,000 daltons, when used as a pesticide inert ingredient (thickener carrier) in pesticide formulations under 40 CFR 180.960. The petitioner believes no analytical method is needed because it is not required for an exemption from the requirement of a tolerance. Contact: RD

D. New Tolerance Exemptions for Non-Inerts (Except PIPS)

PP IF8923. (EPA-HQ-OPP-2021 -0781). Vestaron Corporation 600 Park Offices, Suite 117, Research Triangle, NC 27709, requests to establish an exemption from the requirement of a tolerance in 40 CFR part 180 for residues of the insecticide U1-AGTX-Ta1b-QA in or on all food commodities. The petitioner believes no analytical method is needed because an exemption from tolerance without numerical limitations is requested and analytical methods that are normally utilized for detection of compounds in crop plants are incapable of quantifying the negligible levels of U1-AGTX-Ta1b-QA that are predicted to be present in raw or processed agricultural commodities. Contact: BPPD.

E. New Tolerance Exemptions for PIPS

PP 1E8948. (EPA-HQ-OPP-2022-0205). State University of New York (SUNY) College of Environmental Science and Forestry, 1 Forestry Dr., Syracuse, NY 13210, requests to establish an exemption from the requirement of a tolerance in 40 CFR part 174 for residues of the plant-incorporated protectant (PIP) oxalate oxidase enzyme and the genetic material necessary for its production in or on American Chestnut (Castanea spp. and their hybrids). The petitioner believes no analytical method is needed because an analytical method for residues is not applicable as an exemption from the requirement of a tolerance is proposed. Contact: BPPD.

F. New Tolerances for Non-Inerts

1. PP 1F8934. (EPA-HQ-OPP-2021-0641). Syngenta Crop Protection, LLC, 410 Swing Road, P.O. Box 18300, Greensboro, NC 27419-8300, requests to establish a tolerance in 40 CFR part 180 for residues of the insecticide isocycloseram in or on almond, hulls at 6 ppm; almond, oil at 1 ppm; almond, roasted at 0.5 ppm; apple, wet pomace at 1 ppm; barley, grain at 0.01 ppm; barley, hay at 0.01 ppm; barley, straw at 0.01 ppm; buckwheat, grain at 0.01 ppm; buckwheat, forage at 0.01 ppm; buckwheat, hay at 0.01 ppm; buckwheat, straw at 0.01 ppm; corn, field, grain at 0.01 ppm; corn, field, forage at 2 ppm; corn, field, stover at 1.5 ppm; corn, pop, grain at 0.01 ppm; corn, pop, stover at 1.5 ppm; cotton, gin byproducts at 10 ppm; cottonseed, subgroup 20C at 0.5 ppm; fruit, citrus, group 10-10 at 0.4 ppm; fruit, pome, group 11-10 at 0.4 ppm; fruit, stone, group 12-12 at 1 ppm; grain, cereal, forage, fodder and straw, group 16 at 0.01 ppm; nut, tree, group 14-12 at 0.15 ppm; oat, grain at 0.01 ppm; oat, forage at 0.01 ppm; oat, hay at 0.01 ppm; oat, straw at 0.01 ppm; onion, bulb, subgroup 3-07A at 0.01 ppm; onion, green, subgroup 3-07B at 0.9 ppm; orange, citrus oil at 190 ppm; orange, dried pulp at 9 ppm; orange, peel at 5 ppm; orange, wet pulp at 3 ppm; peas and bean, dried shelled, except soybean, subgroup 6C at 0.01 ppm; peanut, nutmeat at 0.01 ppm; pearl millet, grain at 0.01 ppm; pearl millet, forage at 0.01 ppm; pearl millet, hay at 0.01 ppm; pearl millet, straw at 0.01 ppm; peas, hay at 0.01 ppm; peas, vine at 0.01 ppm; plum, prunes at 4 ppm; proso millet, grain at 0.01 ppm; proso millet, forage at 0.01 ppm; proso millet, hay at 0.01 ppm; proso millet, straw at 0.01 ppm; rapeseed, subgroup 20A at 0.01 ppm; rye, grain at 0.01 ppm; rye, forage at 0.01 ppm; rye, hay at 0.01 ppm; rye, straw at 0.01 ppm; soybean, seed at 0.15 ppm; soybean, hulls at 0.5 ppm; teosinte, grain at 0.01 ppm; teosinte, forage at 0.01 ppm; teosinte, hay at 0.01 ppm; teosinte, straw at 0.01 ppm; tomato, dried pomace at 35 ppm; tomato, sun-dried at 3 ppm; tomato, wet pomace at 10 ppm; triticale, grain at 0.01 ppm; triticale, forage at 0.01 ppm; triticale, straw at 0.01 ppm; vegetables, brassica, head and stem, group 5-16 at 4 ppm; vegetables, cucurbit, group 9 at 0.1 ppm; vegetables, fruiting, subgroup 8-10A at 0.5 ppm; vegetables, fruiting, subgroup 8-10B at 0.6 ppm; vegetables, leafy, group 4-16 at 9 ppm; vegetables, tuberous and corm, subgroup 1C at 0.01 ppm; wheat, grain at 0.01 ppm; wheat, forage at 0.01 ppm; wheat, hay at 0.01 ppm; wheat, straw at 0.01 ppm; cattle, fat at 0.03 ppm; cattle, kidney at 0.03 ppm; cattle, liver at 0.05 ppm; cattle, meat at 0.01 ppm; cattle, meat byproducts at 0.05 ppm; milk at 0.01 ppm; milk, cream at 0.01 ppm; goat, fat at 0.03 ppm; goat, kidney at 0.03 ppm; goat, liver at 0.05 ppm; goat, meat at 0.01 ppm; goat, meat byproducts at 0.05 ppm; horse, fat at 0.03 ppm; horse, kidney at 0.03 ppm; horse, liver at 0.05 ppm; horse, meat at 0.01 ppm; horse, meat byproducts at 0.05 ppm; sheep, fat at 0.03 ppm; sheep, kidney at 0.03 ppm; sheep, liver at 0.05 ppm; sheep, meat at 0.01 ppm; sheep, meat byproducts at 0.05 ppm; poultry (muscle, fat, offal) at 0.01 ppm; birds' egg at 0.01 ppm. For Analytical Method Food: QuEChERS multi-residue method has been validated and independently validated for post-registration monitoring of SYN547407 for compliance with MRLs and import tolerances in plant commodities at an LOQ of 0.01 mg/kg. For Analytical Method Livestock: QuEChERS multi-residue method (EN 15662:2008) has been validated and independently validated for post-registration monitoring of SYN547407 in all animal commodities (and SYN549436 and SYN549544 in ruminant liver and kidney) for compliance with MRLs and import tolerances for animal commodities at an LOQ of 0.01 mg/kg. Contact: RD.

2. PP 1E8910. (EPA-HQ-OPP-2022-0139). Dow AgroSciences LLC, 9330 Zionsville Rd., Indianapolis, IN 46268, requests to establish a tolerance in 40 CFR part 180 for residues of the insecticide methoxyfenozide in or on coffee at 0.15 ppm and sugarcane at 0.03 ppm. The Liquid Chromatography with Tandem Mass Spectrometry Detection (Method GRM 02.25) is used to measure and evaluate the methoxyfenozide residues. Contact: RD.

3. PP 1F8940. (EPA-HQ-OPP-2021-0787). SePRO Corporation, 11550 North Meridian Street, Suite 600, Carmel, IN 46032, requests to establish tolerances in 40 CFR 180.420(a)(2) for residues of the herbicide fluridone, 1-methyl-3-phenyl-5-[3-(trifluoromethyl)phenyl]-4(1H)-pyridinone, including its metabolites and degradates, in or on the raw agricultural commodities of berry and small fruit, group 13-07; fruit, citrus, group 10-10; fruit, pome, group 11-10; tropical and subtropical, small fruit, edible peel subgroup 23A; tropical and subtropical, medium to large fruit, smooth, inedible peel subgroup 24B; hop, dried cones; nut, tree, group 14-12; and rice, grain at 0.1 ppm and animal feed, nongrass, group 18 and grass, forage, fodder and hay, group 17 at 0.15 ppm. The enzyme-linked immunosorbant assay (ELISA), high performance liquid chromatography with ultraviolet detection (HLPC/UV), liquid chromatography with tandem mass spectroscopy (LC-MSMS) and QuEChERS are used to measure and evaluate the chemical residues. Contact: RD.

4. PP 1F8950. (EPA-HQ-OPP-2021-0788). Nippon Soda Co., Ltd., Shin-Ohtemachi Bldg., 2-1, 2-Chome Ohtemachi, Chiyoda-ku, Tokyo, 100-8165, Japan, requests to establish a tolerance in 40 CFR part 180 for residues of the fungicide, cyflufenamid, in or on sugar beets at 0.07 ppm. Solvent extraction and analysis by LC/MS/MS are used to measure and evaluate the chemical Cyflufenamid. Contact: RD.

5. PP 1F8972. (EPA-HQ-OPP-2022-0134). Tessenderlo Kerley, Inc./NovaSource, 2910 N 44th Street, Suite 100, Phoenix, AZ 85018 USA, requests to establish a tolerance in 40 CFR part 180 for residues of the herbicide linuron in or on alfalfa, forage at 1.0 ppm and alfalfa, hay at 3.0 ppm. The HPLC-MS/MS residue analytical method is used to measure and evaluate the chemical linuron. Contact: RD.

6. PP 1F8978. (EPA-HQ-OPP-2022-0257). Belchim Crop Protection US Corporation, 2751 Centreville Road, Suit 100, Wilmington, Delaware 19808, requests to establish a tolerance in 40 CFR part 180 for residues of the herbicide pyridate in or on dry peas and soybeans at 0.05 ppm. The HPLC-MS/MS residue analytical method is used to measure and evaluate the chemical pyridate and the herbicidal active principle, CL 9673. Contact: RD.

Authority: 21 U.S.C. 346a.

Dated: March 14, 2022.
Delores Barber,
Director, Information Technology and Resources Management Division, Office of Program Support.

[FR Doc. 2022-06046 Filed 3-21-22; 8:45 am]

BILLING CODE 6560-50-P